DEPARTMENT OF JUSTICE

Federal Bureau of Investigation

[OMB Notice 1110-NEW]

Agency Information Collection Activities; Proposed Collection, Comments Requested, New Collection: Uniform Crime Reporting Data Collection Instrument Pretesting and Burden Estimation General Clearance

ACTION: 60-Day Notice.

The Department of Justice, Federal Bureau of Investigation, Criminal Justice Information Services Division will be submitting the following information collection request to the Office of Management and Budget (OMB) for review and clearance in accordance with established review procedures of the Paperwork Reduction Act of 1995. The proposed information collection is published to obtain comments from the public and affected agencies. Comments are encouraged and will be accepted until January 27, 2014. This process is conducted in accordance with 5 CFR 1320.10.

All comments, suggestions, or questions regarding additional information, to include obtaining a copy of the proposed information collection instrument with instructions, should be directed to Mrs. Amy C. Blasher, Unit Chief, Federal Bureau of Investigation, Criminal Justice Information Services (CJIS) Division, Module E-3, 1000 Custer Hollow Road, Clarksburg, West Virginia 26306, or facsimile to (304) 625-3566.

Written comments and suggestions from the public and affected agencies concerning the proposed collection of information are encouraged. Comments should address one or more of the following four points:

(1) Evaluate whether the proposed collection of information is necessary for the proper performance of the functions of the agency, including whether the information will have practical utility;

(2) Evaluate the accuracy of the agency's estimate of the burden of the proposed collection of information, including the validity of the methodology and assumptions used;

(3) Enhance the quality, utility, and clarity of the information to be collected; and

(4) Minimize the burden of the collection of information on those who are to respond, including through the use of appropriate automated, electronic, mechanical, or other technological collection techniques of other forms of information technology, e.g., permitting electronic submission of responses.

Overview of This Information Collection

(1) Type of information collection: New Collection.

(2) The title of the form/collection: Uniform Crime Reporting Data Collection

Instrument Pretesting and Burden Estimation General Clearance

(3) The agency form number, if any, and the applicable component of the department sponsoring the collection: Criminal Justice Information Services Division, Federal Bureau of Investigation, Department of Justice.

(4) Affected public who will be asked or required to respond, as well as a brief abstract: Primary: City, county, state, tribal, and federal law enforcement agencies. Abstract: This clearance provides the UCR Program the ability to conduct pretests which evaluate the validity and reliability of information collection instruments and determine the level of burden state and local agencies have in reporting crime data to the FBI. The Paperwork Reduction Act only allows for nine respondents in pretesting activities. This clearance request expands the pretesting sample to 30 persons for each of the ten information collections administered by the UCR Program. Further, the clearance will allow for a brief 5-minute cost and burden assessment for the 18,000 law enforcement agencies participating in the UCR Program.

(5) An estimate of the total number of respondents and the amount of time estimated for an average respondent to respond: UCR Participation Burden Estimation: There are approximately 18,000 law enforcement agency respondents; calculated estimates indicate five minutes per submission. UCR Form Pretesting: There are approximately 300 respondents; calculated estimates indicate one hour per pretest.

(6) An estimate of the total public burden (in hours) associated with this collection: There are approximately 1,800 hours, annual burden, associated with this information collection.

If additional information is required contact: Jerri Murray, Department Clearance Officer, Policy and Planning Staff, Justice Management Division, United States Department of Justice, Two Constitution Square, 145 N Street NE., Room 3W-1407B, Washington, DC 20530.

Dated: November 20, 2013.
Jerri Murray,
Department Clearance Officer, United States Department of Justice.

[FR Doc. 2013-28270 Filed 11-25-13; 8:45 am]

BILLING CODE 4410-02-P